DEPARTMENT OF DEFENSE

Office of the Secretary

Charter Amendment of Department of Defense Federal Advisory Committees—Defense Health Board

AGENCY: Department of Defense (DoD).

ACTION: Charter amendment of Federal Advisory Committee.

SUMMARY: The DoD is publishing this notice to announce that it is amending the charter for the Defense Health Board (DHB).

FOR FURTHER INFORMATION CONTACT: Jim Freeman, DoD Advisory Committee Management Officer, 703-692-5952.

SUPPLEMENTARY INFORMATION: The Board's charter is being amended in accordance with the Federal Advisory Committee Act (FACA) (5 U.S.C., App.) and 41 CFR 102-3.50(d). The charter and contact information for the DHB's Designated Federal Officer (DFO) are found at https://www.facadatabase.gov/FACA/apex/FACAPublicAgencyNavigation.

The DHB provides the Secretary of Defense independent advice and recommendations to maximize the safety and quality of as well as access to, health care for DoD health care beneficiaries. The DHB will focus on matters pertaining to (a) DoD healthcare policy and program management; (b) delivery of high-quality health care services to DoD beneficiaries; (c) the promotion of health, wellness, and prevention within the DoD; (d) the treatment of disease and injury by the DoD; (e) health research priorities; and (f) other health-related matters of special interest to the DoD, as determined by the Secretary of Defense, the Deputy Secretary of Defense, or the Under Secretary of Defense for Personnel and Readiness.

The DHB is composed of not more than 20 members, and as determined by the Secretary of Defense, the DHB's total parent-level and subcommittee level membership cannot exceed 50 members unless otherwise directed by the Secretary of Defense or the Deputy Secretary of Defense. Membership will consist of private and public healthcare leaders with a diversity of background, experience, and thought in support of the DHB's mission in one or more of the following disciplines: Health systems, clinical health care, infectious disease, public health, trauma medicine, beneficiary representation health informatics, patient care safety/quality care, neuroscience, and/or behavioral health. Individual members will be appointed according to DoD policy and procedures, and serve a term of service of one-to-four years with annual renewals. One member will be appointed as Chair of the DHB. No member, unless approved according to DoD policy and procedures, may serve more than two consecutive terms of service on the DHB, or serve on more than two DoD Federal advisory committees at one time.

Members of the DHB who are not full-time or permanent part-time Federal civilian officers or employees, or active duty members of the Uniformed Services, will be appointed as experts or consultants pursuant to 5 U.S.C. 3109 to serve as special government employee members. DHB members who are full-time or permanent part-time Federal civilian officers or employees, or active duty members of the Uniformed Services, will be appointed pursuant to 41 CFR 102-3.130(a) to serve as regular government employee members.

All members of the DHB are appointed to provide advice based on their best judgment without representing any particular point of view and in a manner that is free from conflict of interest. Except for reimbursement of official DHB-related travel and per diem, members serve without compensation.

The public or interested organizations may submit written statements to the DHB membership about the DHB's mission and functions. Written statements may be submitted at any time or in response to the stated agenda of planned meeting of the DHB. All written statements shall be submitted to the DFO for the DHB, and this individual will ensure that the written statements are provided to the membership for their consideration.

Dated: November 8, 2021.
Aaron T. Siegel,
Alternate OSD Federal Register Liaison Officer, Department of Defense.

[FR Doc. 2021-24722 Filed 11-10-21; 8:45 am]

BILLING CODE 5001-06-P